DEPARTMENT OF AGRICULTURE

Forest Service

36 CFR Part 242

DEPARTMENT OF THE INTERIOR

Fish and Wildlife Service

50 CFR Part 100

[FWS-R7-SM-2008-0101; 70101-1335-0064L6]

Subsistence Management Regulations for Public Lands in Alaska; Makhnati Island Area

AGENCIES: Forest Service, Agriculture; Fish and Wildlife Service, Interior.

ACTION: Final rule; correction.

SUMMARY: This document corrects 36 CFR 242.3 and 50 CFR 100.3 of the subsistence management regulations for public lands in Alaska, subpart A, Makhnati Island Area, which were published in the Federal Register of August 24, 2006. That rule, which became effective September 25, 2006, inadvertently omitted 190 acres of the Makhnati Island Area in the regulatory text.

DATES: This correction is effective July 17, 2009.

FOR FURTHER INFORMATION CONTACT: Chair, Federal Subsistence Board, c/o U.S. Fish and Wildlife Service, Attention: Peter J. Probasco, Office of Subsistence Management; (907) 786-3888. For questions specific to National Forest System lands, contact Calvin H. Casipit, Subsistence Program Leader, USDA—Forest Service, Alaska Region, (907) 586-7918.

SUPPLEMENTARY INFORMATION: On August 24, 2006, the Secretaries of Agriculture and the Interior published a final rule (71 FR 49997) that revised jurisdiction of the Federal Subsistence Management Program by adding submerged lands and waters in the area of Makhnati Island, near Sitka, Alaska. That rule, which became effective September 25, 2006, inadvertently omitted 190 acres of the Makhnati Island Area which was withdrawn for use by the Federal Government in Executive Order 8216 (July 25, 1939). Executive Order 8216 was not rescinded until after statehood, so the submerged land did not transfer to the State at statehood. Since this submerged land is not included in any other withdrawal, reservation, or administrative set aside, the marine submerged lands, including any filled lands owned by the United States, are under the administration of the Bureau of Land Management and are included within the jurisdiction of the Federal Subsistence Management Program.

Because this rule relates to public lands managed by an agency or agencies in both the Departments of Agriculture and the Interior, identical text is incorporated into 36 CFR part 242 and 50 CFR part 100.

Administrative Procedure Act

We find good cause to waive notice and comment on this correction, pursuant to 5 U.S.C. 533(b)(3)(B), and the 30-day delay in effective date, pursuant to 5 U.S.C. 553(d). Notice and comment are unnecessary because this correction is a minor, technical change in the description of the area already under Federal jurisdiction. The substance of the regulations remains unchanged. Therefore, this correction is being published as a final rule and is effective upon publication.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

Accordingly, we amend title 36, part 242, and title 50, part 100, of the Code of Federal Regulations as follows:

PART ____—SUBSISTENCE MANAGEMENT REGULATIONS FOR PUBLIC LANDS IN ALASKA

1. The authority citation for both 36 CFR part 242 and 50 CFR part 100 continues to read as follows:

Authority: 16 U.S.C. 3, 472, 551, 668dd, 3101-3126; 18 U.S.C. 3551-3586; 43 U.S.C. 1733.

2. Amend §__.3 by revising paragraph (b)(5) as follows:

§ ___.3 Applicability and scope.

* * * * *

(b) * * *

(5) Southeastern Alaska—Makhnati Island Area: Land and waters beginning at the southern point of Fruit Island, 57°02′35″ north latitude, 135°21′07″ west longitude as shown on United States Coast and Geodetic Survey Chart No. 8244, May 21, 1941; from the point of beginning, by metes and bounds; S. 58° W., 2,500 feet, to the southern point of Nepovorotni Rocks; S. 83° W., 5,600 feet, on a line passing through the southern point of a small island lying about 150 feet south of Makhnati Island; N. 6° W., 4,200 feet, on a line passing through the western point of a small island lying about 150 feet west of Makhnati Island, to the northwestern point of Signal Island; N. 24° E., 3,000 feet, to a point, 57°03′15″ north latitude, 134°23′07″ west longitude; East, 2,900 feet, to a point in course No. 45 in meanders of U.S. Survey No. 1496, on west side of Japonski Island; southeasterly, with the meanders of Japonski Island, U.S. Survey No. 1,496 to angle point No. 35, on the southwestern point of Japonski Island; S. 60° E., 3,300 feet, along the boundary line of Naval reservation described in Executive Order No. 8216, July 25, 1939, to the point beginning, and that part of Sitka Bay lying south of Japonski Island and west of the main channel, but not including Aleutski Island as revoked in Public Land Order 925, October 27, 1953, described by metes and bounds as follows: Beginning at the southeast point of Japonski Island at angle point No. 7 of the meanders of U.S. Survey No. 1496; thence east approximately 12.00 chains to the center of the main channel; thence S. 45° E. along the main channel approximately 20.00 chains; thence S. 45° W. approximately 9.00 chains to the southeastern point of Aleutski Island; thence S. 79° W. approximately 40.00 chains to the southern point of Fruit Island; thence N. 60° W. approximately 50.00 chains to the southwestern point of Japonski Island at angle point No. 35 of U.S. Survey No 1496; thence easterly with the meanders of Japonski Island to the point of beginning including Charcoal, Harbor, Alice, Love, Fruit islands and a number of smaller unnamed islands.

* * * * *

Dated: July 2, 2009.
Ken Salazar,
Secretary of the Interior, Department of the Interior.
Dated: June 1, 2009.
Dennis E. Bschor,
Regional Forester, USDA-Forest Service.

[FR Doc. E9-17052 Filed 7-16-09; 8:45 am]

BILLING CODE 3410-11-P, 4310-55-P